INTERNATIONAL TRADE COMMISSION

[Investigation Nos. 701-TA-450 and 731-TA-1122 (Second Review)]

Laminated Woven Sacks From China

Determinations

On the basis of the record ¹ developed in the subject five-year reviews, the United States International Trade Commission (“Commission”) determines, pursuant to the Tariff Act of 1930 (“the Act”), that revocation of the countervailing and antidumping duty orders on laminated woven sacks from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on February 1, 2019 (84 FR 2249, February 6, 2019) and determined on May 7, 2019, that it would conduct expedited reviews (84 FR 32221, July 5, 2019).

The Commission made these determinations pursuant to section 751(c) of the Act (19 U.S.C. 1675(c)). It completed and filed its determinations in these reviews on August 15, 2019. The views of the Commission are contained in USITC Publication 4944 (August 2019), entitled Laminated Woven Sacks from China: Investigation Nos. 701-TA-450 and 731-TA-1122 (Second Review).

By order of the Commission.
Issued: August 15, 2019.
Lisa Barton,
Secretary to the Commission.

[FR Doc. 2019-17982 Filed 8-20-19; 8:45 am]

BILLING CODE 7020-02-P